DEPARTMENT OF EDUCATION

Notice of Proposed Information Collection Requests

AGENCY: Department of Education.

ACTION: Correction notice.

SUMMARY: On February 7, 2006, the Department of Education published a notice in the Federal Register (Page 6276, Column 3) for the information collection, “Evaluation of the Impact of Literacy Interventions in Freshman Academies—Follow-Up Forms for Students and Teachers.” This notice hereby corrects the e-mail address for comments regarding burden and/or the collection activity requirements to “IC DocketMgr@ed.gov.” The IC Clearance Official, Regulatory Information Management Services, Office of the Chief Information Officer, hereby issues a correction notice as required by the Paperwork Reduction Act of 1995.

Dated: February 9, 2006.
Angela C. Arrington,
IC Clearance Official, Regulatory Information Management Services, Office of the Chief Information Officer.

[FR Doc. E6-2125 Filed 2-14-06; 8:45 am]

BILLING CODE 4000-01-P